NUCLEAR REGULATORY COMMISSION

Public Meeting on an Overview of Recent Activities Related to the Potential High-Level Waste Repository at Yucca Mountain, Nevada

AGENCY: Nuclear Regulatory Commission.

ACTION: Notice of public meetings in Beatty, Tonopah, and Ely, Nevada.

SUMMARY: This is being reprinted to clarify dates, times and locations. The U.S. Nuclear Regulatory Commission (NRC) staff will hold three public meetings on regulation of a potential high-level waste repository at Yucca Mountain. The meetings are intended to foster a common understanding among the stakeholders on safety and regulatory issues, should the U.S. Department of Energy (DOE) submit a license application to the NRC for a possible geologic repository at Yucca Mountain, Nevada. All meetings will be facilitated by Francis X. Cameron, Special Counsel for Public Liaison, Office of the General Counsel, NRC.

The meetings are primarily to acquaint the public with the NRC oversight of a potential high-level waste repository at Yucca Mountain. It will begin with an overview of NRC's responsibilities, include a discussion of NRC's regulations and preparations for evaluating a potential U.S. Department of Energy (DOE) license application, and conclude with an overview of the NRC's role with respect to the transportation of high-level waste. Several opportunities for questions will be provided. In addition, members of the NRC staff will be available for informal discussion with members of the public. The dates, times, and locations of the public meetings are shown below.

Date/Time: Monday, April 8, 2002, from 6:30 p.m.-9 p.m. (Pacific time).

Place: Beatty Senior Center, 150 A Avenue South, Beatty, Nevada.

Date/Time: Tuesday, April 9, 2002, from 6:30 p.m.-9 p.m. (Pacific time).

Place: Tonopah Convention Center, 301 West Brougher Avenue, Tonopah, Nevada.

Date/Time: Wednesday, April 10, 2002, from 6:30 p.m.-9 p.m. (Pacific time).

Place: Holiday Inn Prospector Inn & Casino, 1501 E. Aultman Street, Ely, Nevada.

FOR FURTHER INFORMATION CONTACT: Francis X. Cameron, Special Counsel for Public Liaison, Office of the General Counsel, U.S. Nuclear Regulatory Commission, Washington DC 20555-0001, or by telephone: (301) 415-1642 or e-mail: fxc@nrc.gov.

Dated at Rockville, MD this 22nd day of March, 2002.
For the Nuclear Regulatory Commission.
Janet R. Schlueter,
Chief, High-Level Waste Branch, Division of Waste Management, Office of Nuclear Material Safety and Safeguards.

[FR Doc. 02-7322 Filed 3-26-02; 8:45 am]

BILLING CODE 7590-01-P